OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between November 1, 2007, and November 30, 2007. Future notices will be published on the fourth Tuesday of each month, or as soon as possible thereafter. A consolidated listing of all authorities as of June 30 is published each year.

Schedule A

No Schedule A appointments were approved for November 2007.

Schedule B

No Schedule B appointments were approved for November 2007.

Schedule C

The following Schedule C appointments were approved during November 2007.

Section 213.3303 Executive Office of the President

Office of Management and Budget

BOGS80001 Confidential Assistant to the Administrator, E-Government and Information Technology. Effective November 09, 2007.

Office of National Drug Control Policy

QQGS80001 Special Assistant, Office of State and Local and Tribal Affairs to the Deputy Director for State and Local Affairs. Effective November 21, 2007.

Section 213.3304 Department of State

DSGS61267 Special Assistant to the Assistant Secretary for International Organizational Affairs. Effective November 06, 2007.

DSGS61268 Special Assistant to the Under Secretary for Public Diplomacy and Public Affairs. Effective November 09, 2007.

DSGS68234 Foreign Affairs Officer to the Assistant Secretary for Democracy Human Rights and Labor. Effective November 13, 2007.

Section 213.3305 Department of the Treasury

DYGS00441 Director of Outreach to the Deputy Assistant Secretary (Financial Education). Effective November 06, 2007.

DYGS00489 Operations Coordinator to the Director of Operations. Effective November 30, 2007.

Section 213.3306 Department of Defense

DDGS17116 Protocol Specialist to the Special Assistant to the Secretary of Defense for Protocol. Effective November 05, 2007.

DDGS17119 Special Assistant to the Under Secretary of Defense (Intelligence). Effective November 09, 2007.

DDGS17034 Administrative Assistant to the Director, Department of Defense Office of Legislative Counsel. Effective November 13, 2007.

DDGS17118 Defense Fellow to the Special Assistant to the Secretary of Defense for White House Liaison. Effective November 13, 2007.

DDGS17109 Defense Fellow to the Special Assistant to the Secretary of Defense for White House Liaison. Effective November 14, 2007.

Section 213.3307 Department of the Army

DWGS00089 Personal and Confidential Assistant to the Secretary of the Army. Effective November 09, 2007.

Section 213.3308 Department of the Navy

DNGS07408 Confidential Assistant to the Assistant Secretary of the Navy (Research Development and Acquisition). Effective November 26, 2007.

Section 213.3310 Department of Justice

DJGS00072 Senior Advisor to the Director, Office of Public Affairs. Effective November 01, 2007.

DJGS00102 Counsel to the Assistant Attorney General. Effective November 21, 2007.

Section 213.3311 Department of Homeland Security

DMGS00726 Chief of Staff to the Assistant Secretary for Policy. Effective November 09, 2007.

DMGS00727 Advisor to the Chief of Staff. Effective November 14, 2007.

DMGS00652 Director, Ready Campaign to the Assistant Secretary for Public Affairs. Effective November 21, 2007.

DMGS00728 Press Secretary to the Assistant Secretary for Public Affairs. Effective November 29, 2007.

Section 213.3312 Department of the Interior

DIGS01111 Associate Director—External and Intergovernmental Affairs to the Director, External and Intergovernmental Affairs. Effective November 09, 2007.

Section 213.3313 Department of Agriculture

DAGS00846 Deputy Director of Communications to the Director of Communications. Effective November 30, 2007.

Section 213.3314 Department of Commerce

DCGS00465 Confidential Assistant to the Director Office of White House Liaison. Effective November 06, 2007.

DCGS00540 Deputy Chief of Protocol to the Chief of Staff. Effective November 07, 2007.

DCGS00325 Special Assistant to the Assistant Secretary for Market Access and Compliance. Effective November 21, 2007.

DCGS00472 Confidential Assistant to the Assistant Secretary and Director General of United States/For Commercial Services. Effective November 21, 2007.

DCGS00599 Confidential Assistant to the Director, Office of Legislative Affairs. Effective November 21, 2007.

Section 213.3315 Department of Labor

DLGS00166 Staff Assistant to the Director, 21st Century Office and Deputy Assistant Secretary for Intergovernmental Affairs. Effective November 07, 2007.

Section 213.3316 Department of Health and Human Services

DHGS60058 Confidential Assistant to the Director, Congressional Liaison Office. Effective November 13, 2007.

DHGS60129 Special Assistant to the Administrator Centers for Medicare and Medicaid Services. Effective November 21, 2007.

Section 213.3317 Department of Education

DBGS00533 Special Assistant to the Director, White House Liaison. Effective November 13, 2007.

DBGS00606 Secretary's Regional Representative, Region 3 to the Director, Regional Services. Effective November 13, 2007.

Section 213.3318 Environmental Protection Agency

EPGS07027 Strategic Scheduler to the Deputy Chief of Staff (Operations). Effective November 14, 2007.

EPGS07026 Senior Advisor to the Assistant Administrator for Research and Development. Effective November 21, 2007.

EPGS07028 Confidential Assistant to the Deputy Chief of Staff (Operations). Effective November 21, 2007.

EPGS07029 Director of Advance to the Deputy Chief of Staff (Operations). Effective November 21, 2007.

EPGS07030 Deputy to the Scheduler to the Deputy Chief of Staff (Operations). Effective November 21, 2007.

Section 213.3331 Department of Energy

DEGS00622 Special Advisor to the Chief of Staff. Effective November 06, 2007.

DEGS00623 Special Assistant to the Director, Public Affairs. Effective November 06, 2007.

DEGS00618 Energy Operations Coordinator to the Assistant Secretary (Electricity Delivery and Energy Reliability). Effective November 14, 2007.

DEGS00619 Director of International Activities to the Principal Deputy Assistant Secretary. Effective November 14, 2007.

DEGS00620 Director, Office of Technology Advancement and Outreach to the Chief Operating Officer for Energy Efficiency and Renewable Energy. Effective November 14, 2007.

DEGS00621 Special Assistant to the Deputy Secretary of Energy. Effective November 14, 2007.

DEGS00625 Principal Deputy Director to the Director, Public Affairs. Effective November 29, 2007.

Section 213.3332 Small Business Administration

SBGS00637 Congressional Liaison to the Assistant Administrator for Congressional and Legislative Affairs. Effective November 21, 2007.

SBGS00639 Congressional Liaison to the Assistant Administrator for Congressional and Legislative Affairs. Effective November 21, 2007.

SBGS00640 Regional Administrator (Region II) to the Administrator. Effective November 23, 2007.

Section 213.3337 General Services Administration

GSGS00063 Senior Communications Advisor to the Deputy Associate Administrator for Communications. Effective November 21, 2007.

Section 213.3353 Merit Systems Protection Board

MPGS60014 Counsel to the Chairman. Effective November 09, 2007.

Section 213.3357 National Credit Union Administration

CUOT01324 Staff Assistant to the Director of Public and Congressional Affairs to the Chairman. Effective November 09, 2007.

Section 213.3384 Department of Housing and Urban Development

DUGS60417 Special Assistant to the Assistant Deputy Secretary for Field Policy and Management. Effective November 14, 2007.

Section 213.3396 National Transportation Safety Board

TBGS81116 Confidential Assistant to the Chairman. Effective November 29, 2007.

Authority: 5 U.S.C. 3301 and 3302; E.O. 10577, 3 CFR 1954-1958 Comp., p. 218.

U.S. Office of Personnel Management.
Howard C. Weizmann,
Deputy Director.

[FR Doc. E7-24924 Filed 12-21-07; 8:45 am]

BILLING CODE 6325-39-P